DEPARTMENT OF THE INTERIOR

Bureau of Land Management

[WY-100-08-1310-DB]

Notice of Availability of a Final Supplemental Environmental Impact Statement for the Pinedale Anticline Oil and Gas Exploration and Development Project, Sublette County, WY

AGENCY: Bureau of Land Management, Interior.

ACTION: Notice of availability.

SUMMARY: In accordance with the National Environmental Policy Act of 1969 (NEPA, 42 U.S.C. 4321 et seq.) the Bureau of Land Management (BLM) has prepared a Final Supplemental Environmental Impact Statement (FSEIS) that analyzes additional oil and gas development in the Pinedale Anticline Project Area (PAPA).

DATES: The FSEIS will be available for review for 30 days following the date the Environmental Protection Agency publishes their Notice of Availability in the Federal Register. A Record of Decision (ROD) will be prepared following the 30-day review period.

FOR FURTHER INFORMATION, CONTACT: Caleb Hiner, BLM Project Manager, 768 West Pine Street, P.O. Box 768, Pinedale, Wyoming 82941. Electronic mail may be sent to: Caleb_Hiner@blm.gov with “PAPA FSEIS Information Request” in the subject line. The FSEIS will be posted at http://www.blm.gov/wy/st/en/info/NEPA/pfodocs/anticline/seis.html when available.

SUPPLEMENTARY INFORMATION: The BLM conducted NEPA analysis and issued a ROD for the Pinedale Anticline Oil and Gas Exploration and Development Project in July 2000. The BLM conducted this analysis in response to increasing numbers of operators requesting approval to explore for and develop natural gas on the Pinedale Anticline. The 2000 PAPA ROD established protection of big game crucial winter ranges from oil and gas developments (well drilling and completion) during the winter months, and therefore did not include analysis of the potential impacts of oil and gas development activities (specifically drilling and completions) to big game on crucial winter ranges during the period of November 15 through April 30. The PAPA ROD provided that the BLM could grant limited exceptions to this winter closure period based on current conditions such as presence of wintering animals or depth of snow cover. Finally, the analysis in the PAPA EIS considered a total of 900 wells drilled with 700 producing well pads. The PAPA ROD stated that if the level of proposed development exceeds that analyzed in the EIS, BLM would conduct additional environmental analysis. There are currently approximately 460 producing wells in the PAPA.

Starting in winter 2002-2003, the BLM authorized Questar Exploration and Development Company to continue winter gas development operations at one well pad within big game crucial winter range with the requirement that they work closely with the Wyoming Game and Fish Department in its study of impacts to the Sublette Mule Deer. Since then, other operators within the PAPA have expressed interest in conducting gas development activities including year-round drilling within big game crucial winter range. In summer 2005, Anschutz, Shell, and Ultra submitted a proposal to the BLM for year-round drilling demonstration project on three well pads within their leaseholds for one year. In September 2005, the BLM issued a Decision Record to allow them to proceed (ASU Year-Round Drilling Demonstration Project, September 2005).

In 2005, BLM received a proposal for continued and expanded long-term development of natural gas resources in the PAPA from Questar Exploration and Production, Shell Exploration and Production Company, and Ultra Resources Inc. (‘The Operators’). The Operators proposed to conduct year-round drilling and completions in concentrated development areas within a core development area coinciding with the Anticline Crest in the PAPA. The Operators proposed an additional 4,399 wells on approximately 10-acre bottom hole spacing from an additional 250 well pads. The proposed development included construction of new well pads and substantial expansion of existing well pads to allow for multiple wells to be drilled from a pad. In addition, the BLM has determined that there is a need for new pipeline corridors between the PAPA and gas processing plants in southwestern Wyoming. Therefore, the FSEIS also includes analysis of potential new corridors.

The PAPA encompasses approximately 198,034 acres of primarily Federal lands (nearly 80 percent), and State and private land. Approximately 83 percent of the mineral estate underlying the PAPA is federally-owned. The BLM has identified the following resources that may be adversely impacted by the proposal: surface and ground water resources; air quality; wildlife and their habitats; reclamation; visual resources; transportation; noxious weed control; grazing, cultural and paleontological resources; wetland and riparian resources; threatened and endangered animal and plant species; and socioeconomic resources.

The BLM's Notice of Intent (NOI) to prepare a SEIS was printed in the Federal Register on October 21, 2005. A Notice of Availability (NOA) of the Draft SEIS was published in the Federal Register on December 15, 2006. The public comment period on the Draft SEIS closed in April 2006. Based upon public comment, the BLM determined two additional alternatives needed to be analyzed and made available for public review. A NOA for Revised Draft SEIS was published in the Federal Register on December 28, 2007. The comment period on the Revised Draft SEIS closed on February 11, 2008.

The FSEIS describes and analyzes five alternatives, including the No Action Alternative and The Operators proposed action. A summary of the alternatives follows:

(A) The No Action Alternative would continue development on the Pinedale Anticline under the conditions imposed by the 2000 PAPA ROD. The Operator's proposal for year-round access would be denied. This alternative does not provide for full resource recovery.

(B) Alternative 2, The Operators proposed action, includes year-round development of up to 4,399 additional wells. Development would occur in three areas of concentrated development within a core area. Tier 2 equivalent emission controls would be installed on drilling rig engines in 29 of 48 drilling rigs in 2009. The Operators have also committed to 3:1 offsite mitigation for wildlife, if necessary.

(C) Alternative 3 considers the same project components as Alternative 2; however implementation would be phased spatially. It analyzes a smaller core area, with five areas of development; year-round access would be limited by area. The goal of Alternative 3 is to minimize surface disturbance in some areas while maximizing development in other areas. Air quality mitigation to reduce impacts in nearby sensitive areas is included in this alternative.

(D) Alternative 4, the BLM Preferred Alternative, is the result of comments received on the Draft SEIS. This alternative expands the core area slightly as compared to Alternatives 2 and 3, and delineates a potential development area around the core. Similar to Alternatives 2 and 3 the core area is broken into five development areas. The alternative also analyzes spatial phasing of development and applies Operator offered mitigation measures including Federal suspended leases and areas of no surface occupancy on areas outside the core of the PAPA. Adaptive management and a compensatory mitigation fund are also important elements of this alternative. Additional air quality mitigation is also included to further reduce impacts.

(E) Alternative 5 describes development of the full Operator proposed number of new wells (4,399) under conditions similar to the 2000 PAPA ROD, and without winter access in restricted wildlife habitats.

James K. Murkin,
Acting Associate State Director.

[FR Doc. E8-14493 Filed 6-26-08; 8:45 am]

BILLING CODE 4310-22-P